DEPARTMENT OF COMMERCE

Foreign-Trade Zones Board

[B-65-2023]

Foreign-Trade Zone (FTZ) 125, Notification of Proposed Production Activity; Grand Design RV, LLC; (Motor Homes); Middlebury, Indiana

Grand Design RV, LLC submitted a notification of proposed production activity to the FTZ Board (the Board) for its facilities in Middlebury, Indiana, within FTZ 125. The notification conforming to the requirements of the Board's regulations (15 CFR 400.22) was received on December 19, 2023.

Pursuant to 15 CFR 400.14(b), FTZ production activity would be limited to the specific foreign-status materials/components and specific finished product described in the submitted notification (summarized below) and subsequently authorized by the Board. The benefits that may stem from conducting production activity under FTZ procedures are explained in the background section of the Board's website—accessible via www.trade.gov/ftz.

The proposed finished product is diesel motorhomes (duty rate is 2.5%).

The proposed foreign-status materials and components are cab chassis and van chassis (duty rate ranges from 4.0% to 25.0%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is February 7, 2024.

A copy of the notification will be available for public inspection in the “Online FTZ Information System” section of the Board's website.

For further information, contact Juanita Chen at juanita.chen@trade.gov.

Dated: December 22, 2023.
Elizabeth Whiteman,
Executive Secretary.

[FR Doc. 2023-28779 Filed 12-28-23; 8:45 am]

BILLING CODE 3510-DS-P